SOCIAL SECURITY ADMINISTRATION

[Docket No. SSA-2007-0083]

Notice of Senior Executive Service Performance Review Board Membership

AGENCY: Social Security Administration.

Title 5, U.S. Code 4314(c)(4), requires that the appointment of Performance Review Board members be published in the Federal Register before service on said Board begins.

The following persons will serve on the Performance Review Board, which oversees the evaluation of performance appraisals of Senior Executive Service members of the Social Security Administration:

JoEllen Felice*, Rogelio Gomez, Pete Herrera*, Lewis Kaiser*, Eileen McDaniel*, Marcia Mosley*, Gregory Pace, Ronald Raborg, Ramona Schuenemeyer*, Donna Siegel, Roy Snyder*, Tom Tobin, Tina Waddell*.

*New Member.

Dated: October 18, 2007.
Reginald F. Wells,
Deputy Commissioner for Human Resources.

[FR Doc. E7-21066 Filed 10-24-07; 8:45 am]

BILLING CODE 4191-02-P